Proclamation 10554 of April 21, 2023

National Park Week, 2023

By the President of the United States of America

A Proclamation

Edward Abbey, park ranger and author, wrote that “Every man, every woman, carries in heart and mind the image of the ideal place, the right place, the one true home, known or unknown, actual or visionary.” For so many Americans, this place can be found in our magnificent National Park System. From the pristine lakes of Glacier National Park to the breathtaking cliffs of Acadia and from Independence Hall in Philadelphia to the César E. Chávez National Monument in California, these 424 cultural treasures and natural wonders provide endless opportunities for recreation, reflection, and inspiration. This week, we celebrate our cherished National Park System and recommit ourselves to protecting it for years to come.

Preserving our remarkable lands, which have been home to Tribal Nations since time immemorial, not only bridges our past to our present but also invests in our planet's future. By tending to our forests, we support our trees' ability to cycle carbon dioxide out of the atmosphere. By safeguarding our wetlands, we shore up our defenses against hurricanes and superstorms and improve our chances of beating back forest fires. Ensuring the health of our ecosystems is vital to our fight against the climate crisis and our resilience when disasters strike.

That is why I launched the “America the Beautiful” initiative during my first year in office. This set a national goal of voluntarily conserving 30 percent of our country's lands and waters by 2030. Our National Park System is a cornerstone of this conservation effort, and expanding and protecting it is key to meeting our goal.

My Administration is also investing over a billion dollars through our Bipartisan Infrastructure Law to help Federal agencies, including the National Park Service, restore our extensive system of national parks and public lands. This funding supports critical ecosystems by combating invasive species, replanting vegetation, and improving soil health. It expands recruitment, training, and pay for thousands of brave wildland firefighters. And it supports new trails, roads, bridges, and other transportation within national parks, making it easier and safer to travel and see the sights. These efforts go hand-in-hand with our Inflation Reduction Act, the largest investment in combating climate change in American history. With this law, the National Park Service will hire new employees, and we will build out clean energy charging stations across our national parks and public lands, bringing us closer to a net-zero emissions future.

I have been proud to use executive authorities—including my authority under the Antiquities Act—to protect and expand some of America's most cherished natural wonders in and outside the National Park System. I designated the Camp Hale-Continental Divide Monument in Colorado and protected Alaska's Tongass National Forest. I restored protections for Alaska's Bristol Bay, Minnesota's Boundary Waters Area Watershed, Utah's Bears Ears and Grand Staircase-Escalante National Monuments, and the Northeast Canyons and Seamounts National Monuments. And last month, I established our two newest national monuments—Avi Kwa Ame National Monument in Nevada and Castner Range National Monument in Texas—protecting nearly 514,000 total acres of public land.

Throughout this work, my Administration is ensuring that all Americans have equal access to our national parks. My new Budget requests $3.8 billion from the Congress for the National Park Service so we can improve transportation options to and from these sites—making it easier for all Americans to visit, especially people in underserved communities and people with disabilities. We are taking steps to recognize traditional indigenous knowledge and to expand Tribal co-stewardship of national parks because drawing upon Tribal Nations' deep expertise of these lands is key to sustaining them. And through the Outdoor Recreation Legacy Partnership, the National Park Service is helping renovate and build public parks and other outdoor spaces in communities with little access to outdoor recreation.

Our national parks are the envy of the world. Jill and I have taken our children and grandchildren to these extraordinary places around the country to remind them of the magnificence and majesty of America. They unite us all and are the birthright that we pass down from generation to generation. This week and always, let us appreciate these national treasures that our ancestors conserved for us and rededicate ourselves to preserving them for all Americans to enjoy.

On April 22, the National Park Service will be offering free entry to all national parks. I encourage everyone to take advantage of this opportunity and to visit these treasured places.

NOW, THEREFORE, I, JOSEPH R. BIDEN JR., President of the United States of America, by virtue of the authority vested in me by the Constitution and the laws of the United States, do hereby proclaim April 22 through April 30, 2023, as National Park Week. I encourage all Americans to find their park, recreate responsibly, and enjoy the benefits that come from spending time in the natural world.

IN WITNESS WHEREOF, I have hereunto set my hand this twenty-first day of April, in the year of our Lord two thousand twenty-three, and of the Independence of the United States of America the two hundred and forty-seventh.

[FR Doc. 2023-08936

Filed 4-25-23; 8:45 am]

Billing code 3395-F3-P